DEPARTMENT OF TRANSPORTATION

Surface Transportation Board

[Docket No. FD 35451]

Wichita, Tillman & Jackson Railway Company—Lease Renewal Exemption—Oklahoma Department of Transportation

Wichita, Tillman & Jackson Railway Company (WTJR), a Class III rail carrier, has filed a verified notice of exemption under 49 CFR 1150.41 to renew and supplement its lease of approximately 61.02 miles of rail line owned by the Oklahoma Department of Transportation (ODOT), referred to as the Western Branch. The Western Branch extends between milepost 17.54 at the Texas-Oklahoma State line near Burkburnett, Tex., and milepost 78.56 at Altus, Okla. WTJR has leased and operated the Western Branch since 1991.¹

¹ WTJR states that in its 1991 filing, it rounded up the milepost at Altus to 78.6, and stated the length of the line was 61.1 miles. Wichita, Tillman & Jackson Ry.—Lease and Operation Exemption—State of Okla., FD 31788 (ICC served Jan. 8, 1991).

This transaction is related to a concurrently filed notice of exemption in Wichita, Tillman & Jackson Railway Company—Lease Renewal Exemption—Union Pacific Railroad Company, FD 35452, in which WTJR seeks to renew its lease of approximately 40.48 miles of rail line consisting of two unconnected segments in Texas and Oklahoma.

WTJR states that it and ODOT will shortly execute a lease renewal agreement renewing the 1991 Track Lease and Operating Agreement. The term of the lease renewal is 20 years, and the lease renewal will also include other changes beyond the extension of the lease term.

WTJR certifies that its projected annual revenues as a result of the transaction will not result in WTJR becoming a Class II or Class I rail carrier and further certifies that its projected annual revenues will not exceed $5 million.

The transaction is scheduled to be consummated on or after January 12, 2011.

If the verified notice contains false or misleading information, the exemption is void ab initio. Petitions to reopen the proceeding to revoke the exemption under 49 U.S.C. 10502(d) may be filed at any time. The filing of a petition to revoke will not automatically stay the transaction.

An original and 10 copies of all pleadings, referring to Docket No. FD 35451, must be filed with the Surface Transportation Board, 395 E Street, SW., Washington, DC 20423-0001. In addition, a copy of each pleading must be served on Karl Morell, Ball Janik LLP, Suite 225, 1455 F Street, NW., Washington, DC 20005.

Board decisions and notices are available on our Web site at http://www.stb.dot.gov.

Decided: December 17, 2010.
By the Board, Rachel D. Campbell, Director, Office of Proceedings.
Andrea Pope-Matheson,
Clearance Clerk.

[FR Doc. 2010-32289 Filed 12-22-10; 8:45 am]

BILLING CODE 4915-01-P